DEPARTMENT OF LABOR

Employment and Training Administration

Announcement of Public Briefings on Using the New Permanent Foreign Labor Certification (PERM) System

AGENCY: Employment and Training Administration, Labor.

ACTION: Notice.

SUMMARY: The regulation to implement the re-engineered permanent foreign labor certification program (PERM) was published in the Federal Register on December 27, 2004, with an effective date of March 28, 2005. The Employment and Training Administration (ETA) of the Department of Labor (Department or DOL) is issuing this notice to announce DOL will offer four public briefings to educate the public on using the new permanent foreign labor certification system. The four briefings will take place in early 2005 in Chicago, Atlanta, Costa Mesa (California) and Washington, DC. During the briefings, the Department will also provide an update on backlog reduction efforts. This notice provides the public with locations, dates, and registration information regarding these four briefings.

As of December 13, 2004, The Department opened two new National Processing Centers in Atlanta and Chicago. The National Processing Centers will handle permanent labor certification cases to be filed under the PERM system. For the sessions held in Atlanta and Chicago, the Department will offer an open house to allow the public to tour the two new facilities. Attendees of the briefings are not required to formally register for the open house, but instead are invited to visit the National Processing Centers during the hours listed below.

FOR FURTHER INFORMATION CONTACT: William Carlson, Chief, Division of Foreign Labor Certification, Employment and Training Administration, 200 Constitution Avenue, NW., Room C-4312, Washington, DC 20210; Telephone: (202) 693-3010 (this is not a toll-free number).

SUPPLEMENTARY INFORMATION: The following registration information should be used by any member of the public planning to attend a PERM briefing session.

Chicago

Date: Monday, January 10, 2005.

Event: Open house.

Time: 2 p.m. to 4 p.m.

Location: U.S. Department of Labor, Employment and Training Administration, Foreign Labor Certification National Processing Center, 844 North Rush Street, 12th Floor, Chicago, Illinois 60611.

Date: Tuesday, January 11, 2005.

Event: PERM briefing.

Time: 9 a.m. to 1 p.m.

Location: Drake Hotel, 140 E. Walton Place, Chicago, IL 60611.

Atlanta:

Date: Tuesday, January 11, 2005.

Event: Open house.

Time: 2 p.m. to 4 p.m.

Location: U.S. Department of Labor, Employment and Training Administration, Foreign Labor Certification National Processing Center, Harris Tower, 233 Peachtree Street, Suite 410, Atlanta, Georgia 30303.

Date: Wednesday, January 12, 2005.

Event: PERM briefing.

Time: 9 a.m. to 1 p.m.

Location: Wyndham Atlanta, 160 Spring St., NW., Atlanta, GA 30303.

Costa Mesa:

Date: Tuesday, January 25, 2005.

Event: PERM briefing.

Time: 9 a.m. to 1 p.m.

Location: Hilton Costa Mesa, 3050 Bristol Street, Costa Mesa, CA 92626.

Washington, DC:

Date: Thursday, February 3, 2005.

Event: PERM briefing.

Time: 9 a.m. to 1 p.m.

Location: Marriott Washington, 1221 22nd Street, NW., Washington, DC 20037.

To Register. To register for one of the PERM briefings listed above, please use the following information. To complete the registration process on-line, please visit http://www.namsinc.org/DOLETA. For questions regarding the registration process, please call 703-821-2226 extension 232.

Signed in Washington, DC, this 29th day of December, 2004.
Emily Stover DeRocco,
Assistant Secretary, Employment and Training Administration.

[FR Doc. 05-156 Filed 1-4-05; 8:45 am]

BILLING CODE 4510-30-M